DEPARTMENT OF LABOR

Employment and Training Administration

[TA-W-62,655]

Warp Processing Co., Inc., Exeter, PA; Notice of Negative Determination Regarding Application for Reconsideration

By application dated March 14, 2008, several workers requested administrative reconsideration of the Department's negative determination regarding the eligibility for workers and former workers of Warp Processing Co., Inc., Exeter, Pennsylvania (the subject firm) to apply for Trade Adjustment Assistance (TAA) and Alternative Trade Adjustment Assistance (ATAA). The negative determination was issued on February 19, 2008. The Department's Notice of negative determination was published in the Federal Register on March 7, 2008 (73 FR 12466). The subject workers are engaged in the activity of warping (placing onto beams) synthetic fibers made of nylon and polyester for the textile industry.

The TAA/ATAA petition was denied based on the Department's findings that the subject firm did not import warped synthetic fibers or shift production to a foreign country, and that the subject firm did not supply a component part to a manufacturing company with an existing primary TAA certification.

The workers stated in the request for reconsideration that the subject firm supplies “customers with warped synthetic fibers and then our customers weave it into fabric and material and produce the finished product” and “is secondarily affected.” The workers further stated that “we know that the other countries are not importing them on beams but they are importing fabric and other finished product.” The workers also alleged that Brawer Brothers is not the subject firm's only customer and that the subject firm's largest customer is Highland Industries.

Pursuant to 29 CFR 90.18(c), administrative reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

After careful review of the request for reconsideration, the support documentation, and previously submitted materials, the Department determines that there is no new information that supports a finding that section 222 of the Trade Act of 1974 was satisfied and that no mistake or misinterpretation of the facts or of the law with regards to the subject workers' eligibility to apply for TAA.

The initial investigation revealed that, during the relevant period, the subject firm did not conduct business with Highland Industries and that the subject firm's only customer was Brawer Brothers. In addition to investigating whether the subject firm increased its imports of warped synthetic fabric, the Department had conducted a survey of not only Brawer Brothers but also its customers regarding their imports of articles like or directly competitive with the warped synthetic fabric produced by the subject workers. The surveys revealed no increased imports.

The three TAA-certified companies referenced in the request for reconsideration are Native Textiles, Inc. (TA-W-58,587 and TA-W-58,587A; certification expired February 15, 2008); Cortina Fabrics (TA-W-52,973; certification expired November 3, 2005); and Guilford Mills, Inc. (TA-W-39,921; certification expired May 15, 2004). Because the certifications for Cortina Fabrics and Guilford Mills, Inc. expired prior to the relevant period, facts which were the basis for the certification applicable to workers covered by that petition cannot be a basis for certification for workers covered by this petition.

Although the TAA certification for Native Textiles did not expire prior to the relevant period, it is irrelevant because the subject firm did not conduct business with that company during the relevant period and because warped synthetic fiber is not a component part of the warp knit synthetic tricot fabric produced by Native Textiles.

Conclusion

After review of the application and investigative findings, I conclude that there has been no error or misinterpretation of the law or of the facts which would justify reconsideration of the Department of Labor's prior decision. Accordingly, the application is denied.

Signed at Washington, DC, this 18th day of March 2008.
Elliott S. Kushner,
Certifying Officer, Division of Trade Adjustment Assistance.

[FR Doc. E8-6116 Filed 3-25-08; 8:45 am]

BILLING CODE 4510-FN-P